FEDERAL MINE SAFETY AND HEALTH REVIEW COMMISSION

Sunshine Act Notice

DATE: August 5, 2011.

TIME AND DATE: 11 a.m., Thursday, August 11, 2011.

PLACE: The Richard V. Backley Hearing Room, 9th Floor, 601 New Jersey Avenue, NW., Washington, DC.

STATUS: Open.

MATTERS TO BE CONSIDERED: The Commission will consider and act upon the following in open session: Secretary of Labor v. Bill Simola, employed by United Taconite, LLC, Docket No. LAKE 2010-128-M. (Issues include whether an agent of a limited liability company can be liable for a civil penalty under section 110(c) of the Federal Mine Safety and Health Act of 1977, 30 U.S.C. 820(c).)

Any person attending this meeting who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Emogene Johnson,
Administrative Assistant.

[FR Doc. 2011-20352 Filed 8-5-11; 4:15 pm]

BILLING CODE 6735-01-P